DEPARTMENT OF TRANSPORTATION

Coast Guard

33 CFR Part 165

[COTP San Juan 00-095]

RIN 2115-AA97

Safety Zone Regulations; Guayanilla Bay, Guayanilla, Puerto Rico

AGENCY: Coast Guard, DOT.

ACTION: Notice of proposed rulemaking.

SUMMARY: The Coast Guard is proposing moving and fixed safety zones around Liquefied Natural Gas (LNG) Carriers with product aboard in the waters of the Caribbean Sea and Guayanilla Bay, Puerto Rico. Due to its size and draft, the LNG vessel will require use of the center of the channel for safe navigation. The highly volatile nature of the cargo requires traffic to maintain a safe distance while moving or moored. These regulations are necessary for the protection of life and property on the navigable waters of the United States.

DATES: Comments and related material must reach the Coast Guard on or before December 26, 2000.

ADDRESSES: You may mail comments and related material to Commanding Officer, U.S. Coast Guard Marine Safety Office San Juan, Rodriguez and Del Valle Building, 4th Floor, Calle San Martin, Road #2, Guaynabo, Puerto Rico. The U.S. Coast Guard Marine Safety Office maintains the public docket for this rulemaking. Comments and material received from the public, as well as documents indicated in this preamble as being available in the docket, will become part of this docket and will be available for inspection or copying at the USCG Marine Safety Office between the hours of 7 a.m. to 3:30 p.m., Monday through Friday, excluding federal holidays.

FOR FURTHER INFORMATION CONTACT: Lieutenant Commander Robert Lefevers at Coast Guard Marine Safety Office San Juan, Puerto Rico, (787) 706-2444.

SUPPLEMENTARY INFORMATION:

Request for Comments

We encourage you to participate in this rulemaking by submitting comments and related material. If you do so, please include your name and address, identify the docket number for this rulemaking (COTP San Juan 00-095), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Commanding Officer U.S. Coast Guard Marine Safety Office at the address under ADDRESSES explaining why one would be beneficial. If we determine that one would aid this rulemaking, we will hold one at a time and place announced by a later notice in the Federal Register.

Background and Purpose

These regulations are needed to provide for the safety of life on navigable waters from hazards associated with LNG carriers. The safety zones are needed because of the significant risks LNG ships present with their highly volatile cargoes, their size, and draft. We anticipate periodic arrivals of LNG carriers in Guayanilla Bay.

Discussion of Proposed Rule

A safety zone would be established with a 100 yard radius surrounding an LNG carrier with product aboard while transiting north of Latitude 17°57.00′N in the waters of the Caribbean Sea and Guayanilla Bay, Puerto Rico. This Safety Zone would remain in effect until the LNG vessel is alongside the Eco-Electrica waterfront facility in Guayanilla Bay. A Safety Zone would also be established in the waters within 150 feet of an LNG vessel when the vessel is alongside the Eco-Electrica waterfront facility. This Safety Zone would remain in effect while the LNG vessel remains at the dock with product aboard or is transferring liquefied natural gas.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10e of the regulatory policies and procedures of DOT is unnecessary due to the relatively infrequent arrivals of LNG carriers and the sparse nature of commercial traffic in Guayanilla Bay.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. The proposed rule may affect the following entities, some of which may be small entities: the owners and operators of vessels intending to transit a portion of Guayanilla Bay during the entry of an LNG vessel into the bay and its subsequent docking and transfer operations at the Eco-Electrica facility. This regulation will not have a significant economic impact on a substantial number of small entities because of the infrequent LNG vessel arrivals into Guayanilla Bay and the short transit time into the bay. Vessel traffic will not be impeded while the LNG carrier is moored to the dock at the Eco-Electrica facility.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant Commander Robert Lefevers at Coast Guard Marine Safety Office San Juan, Puerto Rico, (787) 706-2444.

We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520.).

Federalism

We have analyzed this proposed rule under E.O. 13132 and have determined that it does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (34)g, of Commandant Instruction M16475.lC, this proposed rule is categorically excluded from further environmental documentation because it is establishing a Safety Zone. A “Catagorical Exclusion Determination” is available in the docket where indicated under ADDRESSES.

List of Subjects in 33 CFR Part 165

Harbors, Marine safety, Navigation (water), Reporting and recordkeeping requirements, Safety measures, Waterways.

For the reasons discussed in the Preamble, the Coast Guard proposes to amend 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, and 160.5; 49 CFR 1.46.

2. Section 165.755 is added to read as follows:

§ 165.755 Safety Zone; Guayanilla, Puerto Rico.

(a) The following area is established as a safety zone during the specified conditions:

(1) In a 100 yard radius surrounding a Liquefied Natural Gas (LNG) Carrier with product aboard on approach to Guayanilla Bay transiting north of Latitude 17°57.00′N in the waters of the Caribbean Sea and Guayanilla Bay, Puerto Rico. The safety zone remains in effect until the LNG vessel is alongside the Eco-Electrica waterfront facility in Guayanilla Bay, at position 17°58.55′N, 066°45.3′W.

(2) The waters and land area within 150 feet of an LNG vessel when the vessel is alongside the Eco-Electrica waterfront facility. This safety zone remains in effect while the LNG vessel remains at the dock with product aboard or is transferring liquefied natural gas.

(b) In accordance with the general regulations in § 165.23 of this part, anchoring, mooring or transiting in these zones is prohibited unless authorized by the Coast Guard Captain of the Port.

(c) The Marine Safety Office San Juan will notify the maritime community of periods during which the safety zones will be in effect by providing advance notice of scheduled arrivals and departures of LNG carriers via a Mariners marine broadcast.

Dated: October 3, 2000.
J.A. Servidio,
Commander, U. S. Coast Guard, Captain of the Port.

[FR Doc. 00-27242 Filed 10-23-00; 8:45 am]

BILLING CODE 4910-15-P